DEPARTMENT OF DEFENSE

Department of the Army

Availability for Non-Exclusive, Exclusive, or Partially Exclusive Licensing of U.S. Patent Application Concerning Microfluidized Leishmania Lysate and Methods of Making and Using Thereof

AGENCY: Department of the Army, DOD.

ACTION: Notice.

SUMMARY: In accordance with 37 CFR 404.6 and 404.7, announcement is made of the availability for licensing of U.S. Patent Application No. 09/975,020 entitled “Microfluidized Leishmania Lysate and Methods of Making and Using Thereof,” filed October 12, 2001. Foreign rights (PCT/US01/31894) are also available. The United States Government, as represented by the Secretary of the Army has rights in this invention.

ADDRESSES: Commander, U.S. Army Medical Research and Materiel Command, ATTN: Command Judge Advocate, MCMR-JA, 504 Scott Street, Fort Detrick, Frederick, MD 21702-5012.

FOR FURTHER INFORMATION CONTACT: For patent issues, Ms. Elizabeth Arwine, Patent Attorney, (301) 619-7808. For licensing issues, Dr. Paul Mele, Office of Research & Technology Assessment, (301) 619-6664, both at telefax (301) 619-5034.

SUPPLEMENTARY INFORMATION: This invention relates generally to microfluidized Leishmania lysate preparations. In particular, the present invention relates to microfluidized Leishmania lysate preparations for assays and immunogenic compositions.

Luz D. Ortiz,
Army Federla Register Liaison Officer.

[FR Doc. 02-19715 Filed 8-2-02; 8:45 am]

BILLING CODE 3710-08-M